DEPARTMENT OF HOMELAND SECURITY

Coast Guard

33 CFR Part 117

[Docket No. USCG-2009-0764]

Drawbridge Operation Regulation; Gulf Intracoastal Waterway, Dunedin, FL

AGENCY: Coast Guard, DHS.

ACTION: Notice of temporary deviation from regulations.

SUMMARY: The Commander, Seventh Coast Guard District, has issued a temporary deviation from the regulation governing the operation of the Dunedin Causeway bridge across the Gulf Intracoastal Waterway, mile 141.9, at Dunedin, FL. The deviation is necessary to facilitate rehabilitation of the bascule leaves of the bridge. This deviation allows the bridge to conduct single leaf operations while repairs are conducted with a three hour notice for double leaf operations.

DATES: This deviation is effective from 7 a.m. on September 8, 2009 through 6 p.m. on February 28, 2010.

ADDRESSES: Documents mentioned in this preamble as being available in the docket are part of docket USCG-2009-0764 and are available online by going to http://www.regulations.gov, inserting USCG-2009-0764 in the “Keyword” box and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Gene Stratton, Bridge Branch, Seventh Coast Guard district; telephone 305-415-6740, e-mail allen.e.stratton@uscg.mil. If you have questions on viewing the docket, call Renee V. Wright, Program Manager, Docket Operations, telephone 202-366-9826.

SUPPLEMENTARY INFORMATION: Coastal Marine Construction, INC, on behalf of Pinellas County, FL, has requested a deviation to the regulations of the Dunedin Causeway bridge, mile 141.9, across the Gulf Intracoastal Waterway as required by 33 CFR 117.5: Except as otherwise authorized or required by this part, drawbridges must open promptly and fully for the passage of vessels when a request or signal to open is given in accordance with this subpart. To facilitate the repair of the bascule leaves, one leaf will be required to remain in the closed position upon signal from a vessel, except with a three hour notification for an opening requiring both leaves. This deviation effectively reduces the horizontal clearance of 91 feet by half for vessels requiring an opening. The Mean High Water clearance in the closed position remains 24 feet. Vessels not requiring an opening may pass at any time. This action will affect a limited number of vessels as the ability to use the full 91 foot horizontal clearance is available with a three hour notification. This action is necessary to allow Coastal Marine Construction, INC to conduct necessary repairs the bascule leaves safely and efficiently.

In accordance with 33 CFR 117.35(e), the drawbridge must return to its regular operating schedule immediately at the end of the designated time period. This deviation from the operating regulations is authorized under 33 CFR 117.35.

Dated: November 6, 2009.
Scott A. Buschman,
Captain, U.S. Coast Guard Commander, Seventh Coast Guard District, Acting.

[FR Doc. E9-29126 Filed 12-7-09; 8:45 am]

BILLING CODE 9110-04-P